FEDERAL PERMITTING IMPROVEMENT STEERING COUNCIL

40 CFR Chapter IX

[FPISC Case 2018-001; Docket No. 2018-0008, Sequence No. 1]

RIN 3090-AJ88

Fees for Governance, Oversight, and Processing of Environmental Reviews and Authorizations by the Federal Permitting Improvement Steering Council; Withdrawal

AGENCY: Federal Permitting Improvement Steering Council.

ACTION: Notice of proposed rulemaking; withdrawal.

SUMMARY: The Federal Permitting Improvement Steering Council (Permitting Council) hereby withdraws its proposal to establish an initiation fee for project sponsors to reimburse the Permitting Council for reasonable costs associated with implementing and managing certain aspects of the program established under Title 41 of the Fixing America's Surface Transportation Act (FAST-41). The Permitting Council will continue to assess the relative merits of collecting fees from project sponsors and various fee structures, and may undertake a separate fees rulemaking in the future.

DATES: The proposed rule published on September 4, 2018 (83 FR 44846), is withdrawn on May 18, 2021.

FOR FURTHER INFORMATION CONTACT: John G. Cossa, General Counsel, Federal Permitting Improvement Steering Council, 1800 G St. NW, Suite 2400, Washington, DC 20006, john.cossa@fpisc.gov, or by telephone at 202-255-6936.

People who use a telecommunications device for the deaf may call the Federal Information Relay Service (FIRS) at 1-800-877-8339 to contact this individual during normal business hours or to leave a message at other times. FIRS is available 24 hours a day, 7 days a week. You will receive a reply to a message during normal business hours.

SUPPLEMENTARY INFORMATION: The Permitting Council administers FAST-41, 42 U.S.C. 4370m et seq., which serves to improve the timeliness, predictability, and transparency of the Federal environmental review and authorization processes for “covered” infrastructure projects. Pursuant to 42 U.S.C. 4370m-8(a), Permitting Council member agencies may issue regulations establishing a fee structure for project sponsors to reimburse the United States for “reasonable costs” incurred in conducting environmental reviews and authorizations for FAST-41 covered projects. Reasonable costs include the cost of administering the FAST-41 program and the Permitting Council. 42 U.S.C. 4370m-8(b).

On September 4, 2018, the Permitting Council proposed to establish an initiation fee for project sponsors to reimburse the United States for reasonable costs associated with implementing certain FAST-41 provisions and operating the Permitting Council's Office of the Executive Director. 83 FR 44846. The Permitting Council continues to assess the advantages and disadvantages of: (i) Collecting fees from project sponsors; (ii) various fee structures in light of the diverse range of FAST-41 covered projects; and (iii) how such fees could be used to most effectively comply with and accomplish the goals of FAST-41. In particular, the Permitting Council is considering whether implementing fees at this time may dissuade project sponsors from seeking FAST-41 coverage because project review can span more than two years and the FAST-41 program is currently scheduled to terminate in on December 4, 2022. 42 U.S.C. 4370m-12. The Permitting Council does not anticipate completing its assessment of these and other issues related to the fee proposal in the immediate future, and therefore is withdrawing the proposed rule. The Permitting Council may revisit a FAST-41 fees rulemaking in the future.

Authority: 42 U.S.C. 4370m et seq.

John Cossa,
General Counsel, Federal Permitting Improvement Steering Council.

[FR Doc. 2021-10047 Filed 5-17-21; 8:45 am]

BILLING CODE 6820-PL-P